DEPARTMENT OF TRANSPORTATION

Federal Railroad Administration

[Docket Number FRA-2013-0039]

Petition for Waiver of Compliance

In accordance with Part 211 of Title 49 Code of Federal Regulations (CFR), this document provides the public notice that by documents dated April 2, 2013, and April 24, 2013, the City of Burlington, WI (City), and Wisconsin Central Ltd. (WCL) have jointly petitioned the Federal Railroad Administration (FRA) for a waiver of compliance from certain provisions of the Federal railroad safety regulations contained at 49 CFR part 222, Use of Locomotive Horns at Public Highway-Rail Grade Crossings. FRA assigned the petition Docket Number FRA-2013-0039.

The City and CL (jointly referred to as Petitioners) seek a waiver from the requirements of 49 CFR 222.41(c)(2)(i)(B), which provides that a detailed plan for quiet zone improvements must be filed with FRA by June 24, 2008, in order to continue existing locomotive horn restrictions. The Petitioners also seek a waiver from the requirements of 49 CFR 222.41(c)(3), which provides that locomotive horn restrictions may continue until June 24, 2013, for a pre-rule quiet zone that was not able to be established by automatic approval, had been continued under the provisions of 49 CFR 222.31(c)(1) and 49 CFR 222.31(c)(2), and for which the State agency had provided a comprehensive statewide implementation plan. Specifically, the Petitioners request that the City be granted permission to correct the detailed plan that FRA has on file. The Petitioners also wish to retain the present locomotive horn restriction as trains approach the public highway-rail grade crossings at Roberts Street (DOT #689851C), Adams Street (DOT #689853R), Jefferson Street (DOT #689854X), Milwaukee Avenue (DOT #689857T), and Chestnut Street (DOT #689856L) until June 24, 2015.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 8, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 20, 2013.
Robert C. Lauby,
Deputy Associate Administrator for Regulatory and Legislative Operations.

[FR Doc. 2013-12352 Filed 5-22-13; 8:45 am]

BILLING CODE 4910-06-P